DEPARTMENT OF COMMERCE

International Trade Administration

[C-507-601]

Notice of Rescission of Countervailing Duty Administrative Review: Roasted In-shell Pistachios from the Islamic Republic of Iran

AGENCY: Import Administration, International Trade Administration, Department of Commerce.

ACTION: Notice of Rescission of Countervailing Duty Administrative Review.

SUMMARY: On November 18, 2002, the Department of Commerce (the Department) initiated an administrative review of the countervailing duty order on roasted in-shell pistachios (roasted pistachios) from the Islamic Republic of Iran (Iran), covering the period January 1, 2001, through December 31, 2001, and one manufacturer/exporter of the subject merchandise, Tehran Negah Nima Trading Company, Inc. (Nima). See Initiation of Antidumping and Countervailing Duty Administrative Reviews and Requests for Revocation in Part, 67 FR 70402 (November 22, 2002). This review has now been rescinded due to petitioners'¹ withdrawal of their request for an administrative review.

¹ Petitioners include the California Pistachios Commission (CPC) and its members and a domestic interested party, Cal Pure Pistachios, Inc. (Cal Pure).

EFFECTIVE DATE: March 26, 2003.

FOR FURTHER INFORMATION CONTACT: Darla Brown or Eric B. Greynolds, AD/CVD Enforcement, Office VI, Group II, Import Administration, U.S. Department of Commerce, Room 4012, 14th Street and Constitution Avenue, NW, Washington, DC 20230; telephone (202) 482-2849 or (202) 482-6071, respectively.

SUPPLEMENTARY INFORMATION:

Background

On October 31, 2002, the Department received a letter from the CPC and a letter from Cal Pure requesting an administrative review of the countervailing order on roasted pistachios from Iran. On November 18, 2002, the Department initiated an administrative review of this order for the period January 1, 2001, through December 31, 2001. On March 5, 2003, and March 10, 2003, the CPC and Cal Pure, respectively, submitted letters requesting to withdraw their request for the above-referenced administrative review.

Scope of the Review

For purposes of this administrative review, the product covered is all roasted in-shell pistachio nuts, whether roasted in Iran or elsewhere, from which the hull has been removed, leaving the inner hard shells and the edible meat, as currently classifiable in the Harmonized Tariff Schedules of the United States (HTSUS) under item number 0802.50.20.00. The HTSUS subheading is provided for convenience and customs purposes. The written description of the scope of this proceeding is dispositive.

Rescission of Review

Pursuant to 19 CFR § 351.213(d)(1)(2002), the Department may extend the 90-day time limit for submitting requests to withdraw a request for an administrative review. On March 5, 2003, and March 10, 2003, the CPC and Cal Pure, respectively, submitted letters requesting to withdraw their request for the above-referenced administrative review. See letter from the CPC to the Department dated March 5, 2003, and letter from Cal Pure to the Department dated March 10, 2003, on file in the Central Records Unit, Room B-099, Main Building of the Department of Commerce.

In accordance with the Department's regulations, and consistent with its practice, the Department has extended the time within which it will accept requests for withdrawal of the review. Having accepted the CPC and Cal Pure's requests, the Department hereby rescinds the administrative review of roasted pistachios from Iran for the period January 1, 2001, to December 31, 2001. See 19 CFR section 351.213(d)(1). The Department will issue appropriate assessment instructions to the U.S. Customs Service within 15 days of publication of this notice.

This notice is in accordance with section 751(a)(1) of the Tariff Act of 1930, as amended, and section 351.213(d) of the Department's regulations.

Dated: March 20, 2003.
Gary S. Taverman,
Acting Deputy Assistant Secretary for Import Administration.

[FR Doc. 03-7259 Filed 3-25-03; 8:45 am]

BILLING CODE 3510-DS-S